DEPARTMENT OF DEFENSE

GENERAL SERVICES ADMINISTRATION

NATIONAL AERONAUTICS AND SPACE ADMINISTRATION

48 CFR Chapter 1

[Docket No. FAR 2019-0002, Sequence No. 3]

Federal Acquisition Regulation; Federal Acquisition Circular 2019-04; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2019-04. A companion document, the Small Entity Compliance Guide (SECG), follows this FAC. The FAC, including the SECG, is available via the internet at http://www.regulations.gov.

DATES: For effective date see the separate documents, which follows.

FOR FURTHER INFORMATION CONTACT: The analyst whose name appears in the table below in relation to the FAR case. For information pertaining to status or publication schedules, contact the Regulatory Secretariat Division at 202-501-4755.

Rules Listed in FAC 2019-04
Item | Subject | FAR case | Analyst
I | Ombudsman for Indefinite-Delivery Contracts | 2017-020 | Jackson.
II | Technical Amendments

SUPPLEMENTARY INFORMATION: Summaries for each FAR rule follow. For the actual revisions and/or amendments made by these FAR rules, refer to the specific item numbers and subjects set forth in the documents following these item summaries. FAC 2019-04 amends the FAR as follows:

Item I—Ombudsman for Indefinite-Delivery Contracts (FAR Case 2017-020)

DoD, GSA, and NASA are issuing a final rule amending the Federal Acquisition Regulation (FAR) to implement a new clause for use in multiple-award indefinite-delivery indefinite-quantity (IDIQ) contracts that identifies the agency task-order and delivery-order ombudsman's responsibilities and contact information. This rule implements a standardized method to provide the requisite information to contractors via a single contract clause for use by all agencies. This rule intends to minimize the impact on contractors resulting from the variety of ways in which task-order and delivery-order ombudsman information is communicated by agencies.

Item II—Technical Amendments

Editorial changes are made at FAR 1.201-1 and 52.246-21.

Janet M. Fry,
Director, Federal Acquisition Policy Division, Office of Government-wide Policy.

Federal Acquisition Circular (FAC) 2019-04 is issued under the authority of the Secretary of Defense, the Administrator of General Services, and the Administrator of National Aeronautics and Space Administration.

Unless otherwise specified, all Federal Acquisition Regulation (FAR) and other directive material contained in FAC 2019-04 is effective August 7, 2019 except for FAR Case 2017-020, which is effective September 6, 2019.

Linda W. Neilson,

Director, Defense Pricing and Contracting, Defense Acquisition Regulations System Department of Defense.

Jeffrey A. Koses,

Senior Procurement Executive/Deputy CAO, Office of Acquisition Policy, U.S. General Services Administration.

William G. Roets, II,

Acting Assistant Administrator, Office of Procurement, National Aeronautics and Space Administration.

[FR Doc. 2019-16405 Filed 8-6-19; 8:45 am]

BILLING CODE 6820-EP-P